DEPARTMENT OF COMMERCE

Foreign-Trade Zones Board

[Docket 52-2000]

Foreign-Trade Zone 44—Mount Olive, New Jersey, Area; Application for Expansion

An application has been submitted to the Foreign-Trade Zones (FTZ) Board (the Board), by the New Jersey Commerce and Economic Growth Commission, grantee of Foreign-Trade Zone 44, requesting authority to expand its zone in the Mt. Olive, New Jersey, area, within the New York/Newark Customs port of entry. The application was submitted pursuant to the provisions of the Foreign-Trade Zones Act, as amended (19 U.S.C. 81a-81u), and the regulations of the Board (15 CFR part 400). It was formally filed on August 22, 2000.

FTZ 44 was approved on October 19, 1978 (Board Order 139, 43 FR 50234,10/27/78). The general-purpose zone currently consists of one site (77 acres) within the 650-acre International Trade Center located in the Mt. Olive Township of Morris County, New Jersey.

The applicant is now requesting authority to expand its general purpose zone to include an additional site: Proposed Site 2 (309 acres, 2 parcels)—Rockefeller Cranbury Industrial Park (Carter-Wallace, Inc./the Rockefeller Group), Half Acre Road and north of Cranbury Station Road in Cranbury Township, Middlesex County. No specific manufacturing requests are being made at this time. Such requests would be made to the Board on a case-by-case basis.

In accordance with the Board's regulations, a member of the FTZ Staff has been designated examiner to investigate the application and report to the Board.

Public comment on the application is invited from interested parties. Submissions (original and 3 copies) shall be addressed to the Board's Executive Secretary at the address below. The closing period for their receipt is October 30, 2000. Rebuttal comments in response to material submitted during the foregoing period may be submitted during the subsequent 15-day period to November 14, 2000.

A copy of the application and accompanying exhibits will be available for public inspection at each of the following locations:

Office of the Rockefeller Group, 500 International Drive—North, Suite 345, Mount Olive, NJ 07828;

Office of the Executive Secretary, Foreign-Trade Zones Board, Room 4008, U.S. Department of Commerce, 14th and Pennsylvania Avenue, NW., Washington, DC 20230.

Dated: August 24, 2000.
Dennis Puccinelli,
Executive Secretary.

[FR Doc. 00-22217 Filed 8-30-00; 8:45 am]

BILLING CODE 3510-DS-P